DEPARTMENT OF HOMELAND SECURITY

Coast Guard

33 CFR Part 117

[Docket No. USCG-2017-0758]

Drawbridge Operation Regulation; Delaware River, Tacony, PA, and Palmyra, NJ

AGENCY: Coast Guard, DHS.

ACTION: Notice of deviation from drawbridge regulation.

SUMMARY: The Coast Guard has issued a temporary deviation from the operating schedule that governs the SR 73 (Tacony-Palmyra) Bridge across the Delaware River, mile 107.2, in between Tacony, PA, and Palmyra, NJ. The deviation is necessary to facilitate routine maintenance. This deviation allows the bridge to remain in the closed-to-navigation position.

DATES: This deviation is effective from 7 a.m. on December 15, 2017, through 5 p.m. on February 4, 2018.

ADDRESSES: The docket for this deviation, [USCG-2017-0758] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The Burlington County Bridge Commission, owner and operator of the SR 73 (Tacony-Palmyra) Bridge across the Delaware River, mile 107.2, in between Tacony, PA, and Palmyra, NJ, has requested a temporary deviation from the current operating schedule to accommodate annual maintenance to replace machinery components for the drive system that operates the bascule spans. The bridge has a vertical clearance of 50 feet above mean high water (MHW) in the closed position.

The current operating schedule is set out in 33 CFR 117.716. Under this temporary deviation, the bridge will be maintained in the closed-to-navigation position for six (6) separate four (4) day periods from 7 a.m. until 5 p.m. starting from December 15, 2017, through December 18, 2017; January 4, 2018, through January 7, 2018; January 11, 2018, through January 14, 2018; January 18, 2018, through January 21, 2018; January 25, 2018, through January 28, 2018; and February 1, 2018, through February 4, 2018. The bridge will open on signal at all other times.

The Delaware River is used by a variety of vessels including small commercial vessels, recreational vessels and tug and barge traffic. The Coast Guard has carefully coordinated the restrictions with waterway users in publishing this temporary deviation.

Vessels able to pass through the bridge in the closed position may do so if at least 15 minutes notice is given. The bridge will not be able to open for emergencies and there is no immediate alternate route for vessels unable to pass through the bridge in the closed position. The Coast Guard will also inform the users of the waterways through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: November 3, 2017.
Hal R. Pitts,
Bridge Program Manager, Fifth Coast Guard District.

[FR Doc. 2017-24468 Filed 11-9-17; 8:45 am]

BILLING CODE 9110-04-P